DEPARTMENT OF COMMERCE

Foreign-Trade Zones Board

[Docket 51-2011]

Foreign-Trade Zone 77—Memphis, TN; Application for Reorganization and Expansion Under Alternative Site Framework

An application has been submitted to the Foreign-Trade Zones (FTZ) Board (the Board) by the City of Memphis, grantee of FTZ 77, requesting authority to reorganize the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on August 3, 2011.

FTZ 77 was approved by the Board on April 2, 1982 (Board Order 189, 47 FR 16191, 04/15/82), expanded on June 17, 1992 (Board Order 582, 57 FR 28483, 06/25/92) and expanded and reorganized on September 27, 2001 (Board Order 1193, 66 FR 52741, 10/17/01).

The current zone project includes the following sites: Site 1 (22 acres)—Port of Memphis at President's Island Industrial Park, intersection of Port Street and Channel Avenue, Memphis; Site 2 (7 acres)—Spinnaker Inc., 5000 East Raines Road, Memphis; Site 3 (109 acres total)—Contract Warehouse Associates and Barrett Distribution Centers, (106 acres) at 4836 Hickory Hill Road, Memphis; and Cox Construction (Parcel 3, 3 acres), 227 Highway 45 West, Humboldt; Site 4 (419 acres total)—at Memphis Depot Business Park (Parcel 1, 391 acres) at 2163 Airways Blvd., Memphis; Flextronics Inc. (Parcel 2, 24 acres) at 5200 Tradeport Street, 6100 Holmes St, and 6380 Holmes Street, Memphis; and, Ozburn Hessey Logistics (Parcel 3, 4 acres) at 5265 Hickory Hill Road, Memphis; Site 5 (5 acres)—Quality Packaging Services International, 3755 Knight Arnold Road, Memphis; Site 6 (0.5 acres)—FedEx Supply Chain Services, Inc., 5025 Tuggle Road, Memphis; Site 7 (30 acres)—Del-Nat Tire Corporation, 2365 Texas Drive, Memphis; Site 8 (79 acres)—Patterson Warehouses, Inc., 5388 Airways Blvd., Memphis; and, Site 9 (50 acres)—Baxter Healthcare Corporation, 4835 S. Mendenhall Road, Memphis.

The grantee's proposed service area under the ASF would be Shelby County, Tennessee, as described in the application. If approved, the grantee would be able to serve sites throughout the service area based on companies' needs for FTZ designation. The proposed service area is within the Memphis Customs and Border Protection port of entry.

The applicant is requesting authority to reorganize and expand its existing zone project under the ASF as follows: to remove parcel 3 of Site 3; to clarify the boundaries of parcel 1 of the 391-acre Memphis Depot Business Park within Site 4; to renumber parcel 2 of Site 4 as Site 11; to renumber parcel 3 of Site 4 as Site 12; and, to include an additional 16 acres at Site 6 (new total—16.5 acres). Site 4 would become a magnet site and Sites 1, 2, 3, 5, 6, 7, 8, 9, 11 and 12 would become “usage-driven” sites. The applicant is also requesting approval of the following “magnet” site: Proposed Site 10 (2, 000 acres)—Frank C. Pidgeon Industrial Park, Paul Lowery Road in the southwest corner of the Memphis city limits. The ASF allows for the possible exemption of one magnet site from the “sunset” time limits that generally apply to sites under the ASF, and the applicant proposes that proposed magnet Site 10 be so exempted. Because the ASF only pertains to establishing or reorganizing a general-purpose zone, the application would have no impact on FTZ 77's authorized subzones.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is October 7, 2011. Rebuttal comments in response to material submitted during the foregoing period may be submitted during the subsequent 15-day period to October 24, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Kathleen Boyce at Kathleen.Boyce@trade.gov or (202) 482-1346.

Andrew McGilvray,
Executive Secretary.

[FR Doc. 2011-20049 Filed 8-5-11; 8:45 am]

BILLING CODE P